DEPARTMENT OF HOUSING AND URBAN DEVELOPMENT

[Docket No. FR-6068-D-01]

Delegation of Authority to the Assistant Secretary for Administration

AGENCY: Office of the Deputy Secretary, HUD.

ACTION: Notice of delegation of authority.

SUMMARY: Through this notice, the Deputy Secretary delegates to the Assistant Secretary for Administration all authority and responsibility for the coordination, management and supervision for the following offices: Chief Human Capital Officer, Chief Procurement Officer, and Chief Administrative Officer.

DATES: Applicable: January 5, 2018.

FOR FURTHER INFORMATION CONTACT: John B. Shumway, Assistant General Counsel for Administrative Law, Office of General Counsel, Department of Housing and Urban Development, 451 7th Street SW, Room 9262, Washington, DC 20410-0500, telephone number 202-402-5190. (This is not a toll-free number.) Individuals with speech or hearing impairments may access this number through TTY by calling 1-800-877-8339.

SUPPLEMENTARY INFORMATION: The Deputy Secretary hereby delegates to the Assistant Secretary for Administration authority to coordinate, manage and supervise the activities of the offices of the Chief Human Capital Officer, the Chief Procurement Officer, and the Chief Administrative Officer.

Section A. Authority

The Deputy Secretary of Housing and Urban Development hereby delegates to the Assistant Secretary for Administration the authority to coordinate, manage and supervise the activities of the following offices and functions:

1. Office of the Chief Human Capital Officer: This office is responsible for employee performance management; executive resources; human capital field support; human capital policy; planning and training; recruitment and staffing; personnel security; employee assistance program; health and wellness; employee and labor relations; pay; benefits and retirement; and human capital information systems. More detailed information can be found in the delegation of authority notice for the Chief Human Capital Officer, posted at https://www.hud.gov/sites/documents/5562-D-01_DELEGATION.PDF.

2. Office of the Chief Procurement Officer: This office is responsible for obtaining all contracted goods and services required by the Department efficiently and in the most cost-effective manner possible to enable the Department to meet its strategic objectives. The office provides logistical support to HUD's program offices and other support offices in meeting their mission needs and provides leadership on developing fundamentally sound business practices. More detailed information can be found in the designation of the Chief Acquisition Officer and Senior Procurement Officer notice published elsewhere in today's Federal Register.

3. Office of the Chief Administrative Officer: This office is responsible for field support services, Executive Secretariat and compliance functions (including privacy, records, and Freedom of Information Act compliance), facilities management, disaster management and national security, communication support services, including digital and multimedia. More detailed information can be found in the delegation of authority notice for the Chief Administrative Officer, posted at https://www.hud.gov/sites/documents/DOAADMIN071814.PDF.

Section B. Authority to Redelegate

The Assistant Secretary for Administration is authorized to redelegate to employees of HUD any of the authority delegated under Section A above.

Section C. Authority Superseded

This Delegation supersedes Sections A.1 and A.2 (delegating authority to the Chief Operations to supervise the Office of Chief Human Capital Officer and the Office of Chief Administrative Officer) of the May 11, 2015, Delegation of Authority to the Chief Operations Officer, which was published in the Federal Register at 80 FR 26946.

Authority: Section 7(d), Department of Housing and Urban Development Act (42 U.S.C. 3535(d)).

Dated: January 5, 2018.
Pamela H. Patenaude,
Deputy Secretary.

[FR Doc. 2018-01508 Filed 1-25-18; 8:45 am]

BILLING CODE 4210-67-P